DEPARTMENT OF HOUSING AND URBAN DEVELOPMENT

[Docket No. FR-5601-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, +-DAIM-ZS, Room 8536, 2511 Jefferson Davis Hwy., Arlington, VA 22202: (571) 256-8145; Coast Guard: Commandant, United States Coast Guard, Attn: Jennifer Stomber, 2100 Second St. SW., Stop 7901, Washington, DC 20593-0001; (202) 475-5609; Energy: Mr. Mark Price, Department of Energy, Office of Engineering & Construction Management, MA-50, 1000 Independence Ave. SW., Washington, DC 20585: (202) 586-5422;

Interior: Mr. Michael Wright, Acquisition & Property Management, Department of the Interior, 1801 Pennsylvania Ave. NW., 4th Floor, Washington, DC 20006: 202-254-5522; (These are not toll-free numbers).

Dated: February 9, 2012.
Mark R. Johnston,
Deputy Assistant Secretary for Special Needs.

TITLE V, FEDERAL SURPLUS PROPERTY PROGRAM FEDERAL REGISTER REPORT FOR 02/17/2012

Suitable/Available Properties

Building

Mississippi

Tract 02-168

Nat'l Park Service

Vickerburg MS

Landholding Agency: Interior

Property Number: 61201210006

Status: Unutilized

Comments: Off-site removal only; bldg. need repairs; 1200 sq. ft.; current use: residential

New York

Bldg. 0589

Brookhaven Nat'l Lab

Upton NY 11973

Landholding Agency: Energy

Property Number: 41201210002

Status: Unutilized

Comments: Off-site removal only; 60 sq. ft.; current use: storage; poor conditions— signs of decay; need repairs

Four Multi-Unit Apts.

Fort Wadsworth

Staten Island NY 10305

Landholding Agency: Coast Guard

Property Number: 88201210001

Status: Underutilized

Comments: Off-site removal only; sq. ft. varies; current use: residential; bldgs. are not energy sufficient

Washington

Wahlgren Property-Duk Property

Olympic Nat'l Park

Clallam WA 98326

Landholding Agency: Interior

Property Number: 61201210008

Status: Excess

Comments: Off-site removal only; 624 sq. ft.; current use: residential; extremely poor conditions—need repairs; removal may be difficult due to the condition/environmental elements

Lake Quinault Lapham

Olympic Nat'l Park

Quinault WA 98575

Landholding Agency: Interior

Property Number: 61201210009

Status: Excess

Comments: Off-site removal only; 393 sq. ft.; current use: residential; extremely poor conditions—need repairs; removal may be difficult due to the condition/environmental elements

House 574-Ozettee Ranger Resid

Olympic Nat'l Park

Clallam WA 98326

Landholding Agency: Interior

Property Number: 61201210010

Status: Excess

Comments: Off-site removal only; 1,234 sq. ft.; current use: residential; extremely poor conditions—need repairs; removal may be difficult due to the condition/environmental elements

Ozette Lake Moller

Olympic Nat'l Park

Clallam WA 98326

Landholding Agency: Interior

Property Number: 61201210011

Status: Excess

Comments: Off-site removal only; 712 sq. ft.; current use: residential; extremely poor conditions—need repairs; removal may be difficult due to the condition/environmental elements

Suitable/Available Properties

Building

Washington

Lake Quinault Irwin

Olympic Nat'l Park

Amanda Park WA 98575

Landholding Agency: Interior

Property Number: 61201210012

Status: Excess

Comments: Off-site removal only; 640 sq. ft.; current use: residential; extremely poor conditions—need repairs; removal may be difficult due to the condition/environmental elements

Hammer Butler

Olympic Nat'l Park

Quinault WA 98575

Landholding Agency: Interior

Property Number: 61201210014

Status: Excess

Comments: Off-site removal only; 552 sq. ft.; current use: residential; extremely poor conditions—need repairs; removal may be difficult due to the condition/environmental elements

Heidbreder Property-Duk Point

Olympic Nat'l Park

Clallam WA 98326

Landholding Agency: Interior

Property Number: 61201210015

Status: Excess

Comments: Off-site removal only; 708 sq. ft.; current use: residential; extremely poor conditions—need repairs; removal may be difficult due to the condition/environmental elements

Ozette/Duk Point Worden

Olympic Nat'l Park

Clallam WA 98326

Landholding Agency: Interior

Property Number: 61201210017

Status: Excess

Comments: Off-site removal only; 300 sq. ft.; current use: residential; extremely poor conditions—need repairs; removal may be difficult due to the condition/environmental elements

Lake Quinault Cush

Olympic Nat'l Park

Quinault WA 98575

Landholding Agency: Interior

Property Number: 61201210018

Status: Excess

Comments: Off-site removal only; 314 sq. ft.; current use: residential; extremely poor conditions—need repairs; removal may be difficult due to the condition/environmental elements

Kentucky

Tract # 05-120C

Nat'l Park Service

Ft. Heiman KY 42071

Landholding Agency: Interior

Property Number: 61201210005

Status: Unutilized

Comments: Beyond repair; no criteria to meet or no potential to meet habitation or any other use for homeless

Reasons: Extensive deterioration

Minnesota

Tract 67-120

Voyageurs Nat'l Park

Intern'l Falls MN 56649

Landholding Agency: Interior

Property Number: 61201210004

Status: Excess

Comments: Beyond repair; no potential to meet habitation standards or any other use to assist the homeless

Reasons: Extensive deterioration

New York

Bldg. 01404

U.S. Army Garrison

West Point NY 10996

Landholding Agency: Army

Property Number: 21201210006

Status: Unutilized

Comments: Beyond repair; no potential to meet habitation or any other use to assist the homeless

Reasons: Extensive deterioration

Ohio

Bldg. 00331

Defense Supply Center

Columbus OH 43218

Landholding Agency: Army

Property Number: 21201210004

Status: Underutilized

Comments: National security concerns

Reasons: Secured Area

Bldg. 00048

Defense Supply Center

Columbus OH 43218

Landholding Agency: Army

Property Number: 21201210005

Status: Underutilized

Comments: National security concerns

Reasons: Secured Area

Washington

Lake Crescent Drennan

Olympic Nat'l Park

Port Angeles WA 98363

Landholding Agency: Interior

Property Number: 61201210016

Status: Excess

Comments: Landlocked; located between two privately owned properties where accessibility would be denied

Reasons: Not accessible by road

8.5 Acres

Bureau of Reclamation

Rupert ID 83350

Landholding Agency: Interior

Property Number: 61201210007

Status: Unutilized

Comments: Landlocked; can only be reached by crossing into private property; however, access onto the property will be denied

Reasons: Not accessible by road

Utah

Springville Mapleton Lateral

Reclamation

Mapleton UT 84664

Landholding Agency: Interior

Property Number: 61201210019

Status: Excess

Comments: Landlocked; property between two privately owned properties that access is denied

Reasons: Not accessible by road

[FR Doc. 2012-3380 Filed 2-16-12; 8:45 am]

BILLING CODE 4210-67-P